POSTAL REGULATORY COMMISSION

39 CFR Part 3030

[Docket No. RM2024-4; Order No. 7032]

RIN 3211-AA37

System for Regulating Rates and Classes for Market Dominant Products

AGENCY: Postal Regulatory Commission.

ACTION: Advance notice of proposed rulemaking.

SUMMARY: The Advance Notice of Proposed Rulemaking seeks comment on the Commission's review of the system for regulating rates and classes for Market Dominant products (ratemaking system). The Commission previously reviewed the ratemaking system and adopted final rules via Order No. 5763. After the final rules took effect on January 14, 2021, the Postal Service filed five notices proposing to adjust rates for Market Dominant products, and Market Dominant volume and pieces have declined year-over-year. These declines and stakeholder concerns prompted the Commission to initiate another review of the ratemaking system. This document informs the public of the filing, invites public comment, and takes other administrative steps.

DATES:

Comments are due: July 9, 2024.

Reply comments are due: August 13, 2024.

ADDRESSES: Submit comments electronically via the Commission's Filing Online system at https://www.prc.gov. Those who cannot submit comments electronically should contact the person identified in the FOR FURTHER INFORMATION CONTACT section by telephone for advice on filing alternatives. The Rule Summary can be found on the Commission's Rule Summary Page at https://www.prc.gov/rule-summary-page.

FOR FURTHER INFORMATION CONTACT: David A. Trissell, General Counsel, at 202-789-6820.

SUPPLEMENTARY INFORMATION: Pursuant to 39 U.S.C. 503 and 3622(d)(3), the Commission finds that it is appropriate to initiate this proceeding to review the system for regulating rates and classes for Market Dominant products (collectively, “ratemaking system”) to determine if the ratemaking system is achieving the objectives appearing in 39 U.S.C. 3622(b), taking into account the factors in 39 U.S.C. 3622(c). The Commission seeks comments regarding this review.

Interested persons are invited to provide written comments to facilitate the Commission's review of the ratemaking system. Commenters are encouraged to comment as generally or specifically as they deem appropriate. Below the Commission identifies specific topics on which it would particularly appreciate comment. However, commenters are not limited to addressing these identified topics—the Commission will consider all comments that fall within the scope of this proceeding.

1. Is the ratemaking system achieving the statutory objectives, while taking into account the statutory factors? Why or why not?

2. If the ratemaking system is not achieving the statutory objectives, while taking into account the statutory factors, should modifications be made or an alternative system be adopted to achieve the statutory objectives?

a. Why or why not?

b. If so, what modifications to the ratemaking system should be made or what alternative system should be adopted?

By the Commission.
Erica A. Barker,
Secretary.

[FR Doc. 2024-07635 Filed 4-10-24; 8:45 am]

BILLING CODE 7710-FW-P